DEPARTMENT OF COMMERCE

Foreign-Trade Zones Board

[B-45-2024]

Foreign-Trade Zone (FTZ) 121; Authorization of Production Activity; Curia New York, Inc.; (Pharmaceutical APIs); Rensselaer, New York

On August 8, 2024, Curia Global, Inc. submitted a notification of proposed production activity to the FTZ Board for its subsidiary Curia New York, Inc. within Subzone 121A, in Rensselaer, New York.

The notification was processed in accordance with the regulations of the FTZ Board (15 CFR part 400), including notice in the Federal Register inviting public comment (89 FR 66342, August 15, 2024). On December 6, 2024, the applicant was notified of the FTZ Board's decision that no further review of the activity is warranted at this time. The production activity described in the notification was authorized, subject to the FTZ Act and the FTZ Board's regulations, including section 400.14.

Dated: December 6, 2024.
Elizabeth Whiteman,
Executive Secretary.

[FR Doc. 2024-29087 Filed 12-10-24; 8:45 am]

BILLING CODE 3510-DS-P